DEPARTMENT OF THE TREASURY

Office of Foreign Assets Control

31 CFR Part 591

Publication of Venezuela Sanctions Regulations Web General License 45B

AGENCY: Office of Foreign Assets Control, Treasury.

ACTION: Publication of Web General License.

SUMMARY: The Department of the Treasury's Office of Foreign Assets Control (OFAC) is publishing one general license (GL) issued pursuant to the Venezuela Sanctions Regulations: GL 45B, which was previously made available on OFAC's website.

DATES: GL 45B was issued on February 29, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On February 29, 2024, OFAC issued GL 45B to authorize certain transactions otherwise prohibited by the Venezuela Sanctions Regulations (VSR), 31 CFR part 591. The GL was made available on OFAC's website (https://ofac.treasury.gov) when it was issued. GL 45B supersedes GL 45A, which was issued on November 16, 2023. The text of GL 45B is provided below.

OFFICE OF FOREIGN ASSETS CONTROL

Venezuela Sanctions Regulations

31 CFR Part 591

GENERAL LICENSE NO. 45B

Authorizing Certain Repatriation Transactions Involving Consorcio Venezolano de Industrias Aeronáuticas y Servicios Aéreos, S.A.

(a) Except as provided in paragraph (b) of this general license, all transactions ordinarily incident and necessary to the repatriation of Venezuelan nationals from non-U.S. jurisdictions in the Western Hemisphere to Venezuela, and which are exclusively for the purposes of such repatriation, involving Consorcio Venezolano de Industrias Aeronáuticas y Servicios Aéreos, S.A. (Conviasa), or any entity in which Conviasa owns, directly or indirectly, a 50 percent or greater interest, that are prohibited by Executive Order (E.O.) 13850, as amended by E.O. 13857, or E.O. 13884, each as incorporated into the Venezuela Sanctions Regulations, 31 CFR part 591 (the VSR), are authorized.

Note to paragraph (a). The authorization in paragraph (a) of this general license includes transactions for the maintenance (including repair) of the aircraft being used for such repatriation flights.

(b) This general license does not authorize any transactions otherwise prohibited by the VSR, including any transactions involving any person blocked pursuant to the VSR other than the blocked persons described in paragraphs (a) of this general license, Government of Venezuela persons blocked solely pursuant to E.O. 13884, Banco Central de Venezuela, or Banco de Venezuela SA Banco Universal.

(e) Effective February 29, 2024, General License No. 45A, dated November 16, 2023, is replaced and superseded in its entirety by this General License No. 45B.

Note to General License No. 45B. Nothing in this general license relieves any person from compliance with any other Federal laws or requirements of other Federal agencies, including export, reexport, and transfer (in-country) licensing requirements maintained by the Department of Commerce's Bureau of Industry and Security under the Export Administration Regulations, 15 CFR parts 730-774.

Bradley T. Smith,

Director, Office of Foreign Assets Control.

Dated: February 29, 2024.

Bradley T. Smith,
Director, Office of Foreign Assets Control.

[FR Doc. 2024-06031 Filed 3-20-24; 8:45 am]

BILLING CODE 4810-AL-P